DEPARTMENT OF THE INTERIOR

National Park Service

National Register of Historic Places; Notification of Pending Nominations

Nominations for the following properties being considered for listing in the National Register were received by the National Park Service before June 8, 2002. Pursuant to section 60.13 of 36 CFR part 60 written comments concerning the significance of these properties under the National Register criteria for evaluation may be forwarded by United States Postal Service, to the National Register Historic Places, National Park Service, 1849 C St. NW, NC400, Washington, DC 20240; by all other carriers, National Register of Historic Places, National Park Service, 800 N. Capitol St., NW, Suite 400, Washington DC 20002; or by fax, 202-343-1836. Written or faxed comments should be submitted by July 9, 2002.

Carol D. Shull,
Keeper of the National Register of Historic Places.

CALIFORNIA

San Diego County

Mohnike Adobe, 12115 Black Mountain Rd., San Diego, 02000779

FLORIDA

Sarasota County

Overtown Historic District, Roughly along Central and Cohen Aves., bet. 9th and 4th Sts., Sarasota, 02000781

Reid, Leonard, House, 1435 7th St., Sarasota, 02000780

LOUISIANA

Orleans Parish

Fourth Church of Christ, Scientist, 134 Polk Ave., New Orleans, 02000782

MAINE

Lincoln County

Carleton, Moses, House, Hollywood Blvd., 0.2 mi. NE of jct. with ME 94, Alna, 02000783

Union Meeting House, (Former), Main Rd., ME 144, Westport, 02000786

Westport Community Church, Main Rd., ME 144, Westport, 02000784

Somerset County

Dudley's Corner School House, 5 Dudley Corner Rd., Skowhegan, 02000787

Washington County

Jonesboro Union Church, Looks Point Rd., at jct. with US 1, Jonesboro, 02000788

York County

Old Town House, Merrill Hill Rd., N of jct. wit Middle Rd., Parsonsfield, 02000785

MASSACHUSETTS

Essex County

Bridge Street Neck Historic District, Bridge St., and side Sts. bet. March/Osgood Sts., and Howard/Webb Sts., Salem, 02000790

Middlesex County

St. Joseph's Convent and School, 517 Moody St., Lowell, 02000789

MISSOURI

Bates County

Palace Hotel, 2-4 W. Ohio St., Butler, 02000795

Johnson County

Hamilton—Brown Shoe Factory, 1123 Wilkes Blvd., Columbia, 02000791

Putnam County

Unionville Square Historic District, Roughly along portions of Main, Grant., 16th and 17th Sts., Unionville, 02000793

St. Charles County

Meier General Store, 3669 Mill St., New Melle, 02000794

St. Louis County

Czufin, Rudolph and Dorothy C., House, 24 Dielman Rd., Ladue, 02000792

St. Louis Independent City

Fairgrounds Hotel, 3644 Natural Bridge Rd., St. Louis (Independent City), 02000796

NEBRASKA

Lancaster County

Forest Brook Farm, 13905 Van Dorn, Walton, 02000797

NEW YORK

Tompkins County

Austin, William, House, 34 Seneca St., Trumansburg, 02000798

Warren County

Marcella Sembrich Opera Museum, 4800 Lake Shore Dr., Bolton Landing, 02000799

A Request for REMOVAL has been made for the following resources:

ALABAMA

Tuscaloosa County

Hassell, John, House, Rt. 1 Watermelon Rd., Northport, 85000447

PENNSYLVANIA

Lycoming County

Bridge in Plunkett's Creek Township (Highway Bridges Owned by the Commwealth of Pennsylvania, Department of Transportation TR) LR 41053 over Plunkett's Creek Proctor, 88000830

[FR Doc. 02-15889 Filed 6-21-02; 8:45 am]

BILLING CODE 4310-70-P